DEPARTMENT OF HOMELAND SECURITY

Coast Guard

33 CFR Part 100

[Docket No. USCG-2023-0713]

Special Local Regulation; 35th Annual Glass City Regatta “Formerly Known as Frogtown Race Regatta”

AGENCY: Coast Guard, DHS.

ACTION: Notification of enforcement of regulation.

SUMMARY: The Coast Guard will enforce a special local regulation for the 35th Annual Glass City Regatta “Formerly known as Frogtown Race Regatta” on September 23, 2023. This special local regulation is necessary to safely control vessel movement in the vicinity of the race and provide for the safety of the general boating public and commercial shipping. During this enforcement period, no person or vessel may enter the regulated area without the permission of the Coast Guard Patrol Commander (PATCOM).

DATES: The regulation in 33 CFR 100.911 will be enforced from 7 a.m. through 5 p.m. on September 23, 2023.

FOR FURTHER INFORMATION CONTACT: If you have questions about this notification of enforcement, call or email MST1 Luke Harp, Marine Safety Unit Toledo, U.S. Coast Guard; telephone 419-418-6040, email Thomas.L.Harp@uscg.mil.

SUPPLEMENTARY INFORMATION: The Coast Guard will enforce a special local regulation found in 33 CFR 100.911 for the 35th Annual Glass City Regatta “Formerly known as Frogtown Race Regatta” from 7 a.m. through 5 p.m. on September 23, 2023. This notice of enforcement is necessary to safely control vessel movement in the vicinity of the race and provide for the safety of the general boating public and commercial shipping. This notice of enforcement applies to all U.S. navigable waters of the Maumee River from the I-280 Bridge south to the I-75 bridge.

To ensure the safety of the spectators and participating vessels, the Coast Guard will patrol the race area under the direction of a designated Coast Guard Patrol Commander (PATCOM). Vessel desiring to transit the regulated area may do so only with prior approval of the PATCOM and when so directed by that officer. The PATCOM may be contacted on Channel 16 (156.8 MHZ) by the call sign “Coast Guard Patrol Commander.” Vessels permitted to transit the regulated area will operate at no wake speed and in a manner which will not endanger participants in the event or any other craft. The rules contained above shall not apply to participants in the event or vessels of the patrol operating in the performance of their assigned duties.

This notice of enforcement is issued under the authority of 33 CFR 100.911 and 5 U.S.C. 552(a). If the District Commander, Captain of the Port or PATCOM determines that the regulated area need not be enforced for the full duration stated in this notice, he or she may use a Broadcast Notice to Mariners to grant general permission to enter the regulated area.

Dated: August 24, 2023.
Richard P. Armstrong,
Captain, U.S. Coast Guard, Captain of the Port Detroit.

[FR Doc. 2023-18805 Filed 8-30-23; 8:45 am]

BILLING CODE 9110-04-P